DEPARTMENT OF EDUCATION

[CFDA Nos: 84.031A, 84.031T, 84.031N and 84.031W]

Office of Postsecondary Education; Strengthening Institutions (SIP), American Indian Tribally Controlled Colleges and Universities (TCCU), and Alaska Native and Native Hawaiian-Serving Institutions (ANNH) Programs; Notice Inviting Applications for New Awards for Fiscal Year (FY) 2003

Purpose of Programs: The SIP, TCCU, and ANNH Programs are all authorized under Title III, Part A of the Higher Education Act of 1965, as amended (HEA). These programs will be referred to collectively in this notice as the “Title III, Part A Programs.” Each provides grants to eligible institutions of higher education (IHEs) to enable them to improve their academic quality, institutional management, and fiscal stability, and increase their self-sufficiency.

Eligible Applicants: To qualify as an eligible institution under any of the programs included in this notice, an accredited or preaccredited institution must, among other requirements, have a high enrollment of needy students, and its Educational and General (E&G) expenditures per full-time equivalent (FTE) undergraduate student must be low in comparison with the average E&G expenditures per FTE undergraduate student of IHEs that offer similar instruction. The complete eligibility requirements are found in 34 CFR 607.2-607.5. The regulations may also be accessed by visiting the following Department of Education Web site: http://www.ed.gov/legislation/FedRegister

Notes: 1. A grantee under the Developing Hispanic-Serving Institutions (HSI) Program, authorized under Title V of the HEA, may not receive a grant under any Title III, Part A Program. Further, an HSI Program grantee may not give up that grant in order to receive a grant under any Title III, Part A Program. Therefore, a current HSI grantee may not apply for a grant under any Title III, Part A Program in FY 2003.

2. An IHE that does not fall within the limitation described in NOTE 1 may apply for a FY 2003 grant under all Title III, Part A Programs for which it is eligible, as well as under the HSI Program. An applicant may receive only one grant.

Applications Available: January 31, 2003.

Deadline for Transmittal of Applications: March 5, 2003.

Deadline for Intergovernmental Review: May 5, 2003.

Estimated Available Funds: The Administration has requested $76.275 million for the SIP, $18.130 million for the TCCU Program, and $6.734 million for the ANNH Program for FY 2003. The actual level of funding, if any, depends on final congressional action. However, we are inviting applications to allow enough time to complete the grant process if Congress appropriates funds for these programs.

Estimated Range of Awards: $330,000-$365,000 per year for 5-year development grants under SIP; $30,000-$35,000 for 1-year planning grants under the Title III, Part A Programs; $800,000-$1,200,000 for 1-year construction and renovation grants and $347,000-$395,000 per year for 5-year development grants under the TCCU Program; and $300,000-$350,000 per year for 5 year development grants under the ANNH Program.

Estimated Average Size of Awards: $362,000 per year for 5-year development grants under SIP; $32,667 for 1-year planning grants under the Title III, Part A Programs; $1,182,000 per grant for 1-year construction and renovation grants and $380,000 per year for 5-year development grants under the TCCU Program; and $328,000 per year for 5-year development grants under the ANNH Program. Development grants monies may be used for a variety of allowable activities. Construction funds may be used solely for construction, maintenance, renovation and improvement in classrooms, libraries, laboratories, and other instructional facilities, including purchase or rental of telecommunications technology equipment or services. We will refer to grants to carry out construction as construction grants.

Estimated Number of Awards: 15 planning grants under the Title III, Part A Programs; 58 development grants under the SIP; 7 construction and renovation grants and 1 development grant under the TCCU Program; and 4 development grants under the ANNH Program.

Note: The Department is not bound by any estimates in this notice. Applicants should periodically check the Title III, Part A Web site for further information on these programs. The address is: http://www.ed.gov/offices/OPE/HEP/idues/title3a.html

Project Period: 60 months for development grants, 12 months for planning grants and 12 months for construction grants.

Page Limit: The application narrative is where you, the applicant, address the selection criteria that reviewers use to evaluate your application. You must limit your narrative to the equivalent of no more than 100 pages for the individual development grant, 140 pages for the cooperative arrangement development grant and 30 pages for the planning grant, using the following standards:

• A “page” is 8.5″ × 11″, on one side only, with 1″ margins at the top, bottom, and both sides.

• Double space (no more than three lines per vertical inch) all text in the application narrative, including titles and headings. You may single space footnotes, quotations, references, and captions, as well as all text in charts, tables, figures, and graphs.

• Use a font that is either 12-point or larger or no smaller than 10 pitch (characters per inch).

The page limit does not apply to the application cover sheet (ED 424), the one-page abstract, the assurances and certification forms, and the Cooperative Arrangement Form (ED-851A-1). The page limit does, however, apply to all remaining parts of the application.

We will reject your application if—

• You apply these standards and exceed the page limit; or

• You apply other standards and exceed the equivalent of the page limit.

Special Funding Considerations: In tie-breaking situations described in 34 CFR 607.23, the Title III, Part A Program regulations require that we award one additional point to an application from an IHE that has an endowment fund for which the 1999-2000 market value per FTE student was less than the comparable average per FTE student at a similar type IHE. We also award one additional point to an application from an IHE that had expenditures for library materials in 1999-2000 per FTE student that were less than the comparable average per FTE student at a similar type IHE.

For the purpose of these funding considerations, an applicant must demonstrate that the market value of its endowment fund per FTE student and library expenditures per FTE student, were less than the average expenditure per FTE student when calculated using the data submitted by applicants for the year 1999-2000.

If a tie remains, after applying the additional point(s) we will determine the ranking of applicants based on the lowest combined library expenditures per FTE student and endowment values per FTE student.

Applicable Regulations: (a) The Education Department General Administrative Regulations (EDGAR) in 34 CFR parts 74, 75, 77, 79, 82, 85, 86, 97, 98, and 99; and, (b) The regulations for this program in 34 CFR part 607.

Applicability of Executive Order 13202: Applicants that apply for construction funds under these programs must comply with the Executive Order 13202 signed by President Bush on February 17, 2001 and amended on April 6, 2001. This Executive order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive order does not prohibit contractors or subcontractors from voluntarily entering into these agreements.

Projects funded under this program that include construction activity will be provided a copy of this Executive order and will be asked to certify that they will adhere to it.

Priority

Invitational Priority

We are particularly interested in applications that meet the following priority.

Academic programs designed to improve and enhance opportunities for low-income students in the workforce and meet local community workforce needs.

Under 34 CFR 75.105(c)(1) we do not give an application that meets the priority a competitive or absolute preference over other applications.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project for electronic submission of applications to include additional formula grant programs and additional discretionary grant competitions. The Title III, Part A Programs—84.031A, 84.031N, 84.031T, and 84.031W are included in the pilot project. If you are an applicant under the Title III, Part A Programs, you may submit your application to us in either electronic or paper format.

The pilot project involves the use of the Electronic Grant Application System (e-Application) portion of the Grant Administration and Payment System (GAPS). Users of e-Application will be entering data on-line while completing their applications. You may not e-mail a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for the Title III, Part A Programs and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 and 3:30 p.m., Washington, DC time, on the deadline date; or

(b) The e-Application system must be unavailable for any period of time during the last hour of operation (that is, for any period of time between 3:30 and 4:30 p.m., Washington, DC time) on the deadline date. The Department must acknowledge and confirm these periods of unavailability before granting you an extension. To request this extension you must contact either (1) the person listed elsewhere in this notice under For Applications and Further Information Contact or (2) the e-GRANTS help desk at 1-888-336-8930.

You may access the electronic grant application for the Title III, Part A Programs at: http://e-grants.ed.gov

We have included additional information about the e-Application pilot project (see Parity Guidelines between Paper and Electronic Applications) in the application package.

For Applications and Further Information Contact: Darlene B. Collins, U.S. Department of Education, 1990 K Street, NW, 6th Floor, Washington, DC 20006-8513. Telephone: (202) 502-7777 or via Internet: darlene.collins@ed.gov

If you use a telecommunications device for the deaf (TDD), you may call the Federal Information Relay Service (FIRS) at 1-800-877-8339.

Individuals with disabilities may obtain this document in an alternative format (e.g., Braille, large print, audiotape, or computer diskette) on request to the program contact person listed under For Applications and Further Information Contact.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1057-1059d.

Dated: January 28, 2003.
Sally L. Stroup,
Assistant Secretary, Office of Postsecondary Education.

[FR Doc. 03-2347 Filed 1-30-03; 8:45 am]

BILLING CODE 4000-01-P